DEPARTMENT OF JUSTICE

[OMB Number 1105-0085]

Agency Information Collection Activities; Collection; Comments Requested: Application for Approval as a Provider of a Personal Financial Management Instructional Course

ACTION: 60-Day Notice.

The Department of Justice, Executive Office for United States Trustees, has submitted the following application to the Office of Management and Budget (OMB) for review and clearance in accordance with the Paperwork Reduction Act of 1995. The application is published to obtain comments from the public and affected agencies. Comments are encouraged and will be accepted for 60 days until July 5, 2013.

All comments and suggestions, or questions regarding additional information, to include obtaining a copy of the application with instructions, should be directed to Wendy Tien, Deputy Assistant Director, at the Executive Office for United States Trustees, Department of Justice, 441 G Street NW., Suite 6150, Washington, DC 20530.

Written comments and suggestions from the public and affected agencies concerning the collection of information are encouraged. Comments should address one or more of the following four points:

1. Evaluate whether the application is necessary for the proper performance of the functions of the agency, including whether the information will have practical utility;

2. Evaluate the accuracy of the agency's estimate of the burden of the collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of the Information

Type of information collection: | Application form.
The title of the form/collection: | Application for Approval as a Provider of a Personal Financial Management Instructional Course.
The agency form number, if any, and the applicable component of the department sponsoring the collection: | No form number. Executive Office for United States Trustees, Department of Justice.
Affected public who will be asked or required to respond, as well as a brief abstract: | Primary: Individuals who wish to offer instructional courses to student debtors concerning personal financial management. Other: None. Congress passed a bankruptcy law that requires individuals who file for bankruptcy to complete an approved personal financial management instructional course as a condition of receiving a discharge.
An estimate of the total number of respondents and the amount of time estimated for an average respondent to respond/reply: | It is estimated that 275 respondents will complete the application; initial applicants will complete the application in approximately ten (10) hours, while renewal applicants will complete the application in approximately four (4) hours. It is estimated that approximately 1,368,450 debtors will complete a survey evaluating the effectiveness of an instructional course in approximately one (1) minute.
An estimate of the total public burden (in hours) associated with the collection: | The estimated total annual public burden associated with this application is 24,075.5 hours; the applicants' burden is 1,268 hours and the debtors' burden is 22,807.5 hours.

If additional information is required, contact: Jerri Murray, Department Clearance Officer, United States Department of Justice, Justice Management Division, Policy and Planning Staff, Two Constitution Square, 145 N Street NE., Room 1407B, Washington, DC 20530.

Dated: April 30, 2013.
Jerri Murray,
Department Clearance Officer for PRA, U.S. Department of Justice.

[FR Doc. 2013-10589 Filed 5-3-13; 8:45 am]

BILLING CODE 4410-40-P